DEPARTMENT OF THE TREASURY

Submission for OMB Review; Comment Request

July 31, 2009.

The Department of the Treasury will submit the following public information collection requirement(s) to OMB for review and clearance under the Paperwork Reduction Act of 1995, Public Law 104-13, on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 8, 2009 to be assured of consideration.

Bureau of Public Debt (BPD)

OMB Number: 1535-0016.

Type of Review: Extension.

Title: Report/Appl. for relief of loss, theft, destruction of U.S. Bearer Securities.

Form: PD F 1022-1 E.

Description: Used to request relief because of the loss, theft, or destruction of bearer securities.

Respondents: Individuals or households.

Estimated Total Burden Hours: 92 hours.

OMB Number: 1535-0067.

Type of Review: Extension.

Title: Affidavit of Forgery for United States Savings Bonds.

Form: PD F 0974 E.

Description: Used to certify that signature was forged.

Respondents: Individuals or households.

Estimated Total Burden Hours: 625 hours.

OMB Number: 1535-0014.

Type of Review: Extension.

Title: Claim for lost, stolen or destroyed United States registered Securities.

Form: PD F 1025 E.

Description: Used to support request for relief of loss, stolen or destroyed U.S. Registered Securities.

Respondents: Individuals or households.

Estimated Total Burden Hours: 460 hours.

OMB Number: 1535-0015.

Type of Review: Extension.

Title: Report/Appl. for relief of loss, theft or destruction of U.S. Bearer Securities.

Form: PD F 1022 E.

Description: Used to obtain relief for lost, stolen or destroyed bearer securities.

Respondents: Businesses or other for-profits.

Estimated Total Burden Hours: 92 hours.

OMB Number: 1535-0064.

Type of Review: Extension.

Title: Description of United States Savings Bonds Series HH/H and Description of United States Bonds/Notes.

Form(s): PD F 1980, PD-F-2490.

Description: Used by owner of United States Savings Bonds/Notes to describe their holdings.

Respondents: Individuals or households.

Estimated Total Burden Hours: 2,400 hours.

OMB Number: 1535-0098.

Type of Review: Extension.

Title: Claim for Relief on Account of the Non-receipt of United States Savings Bonds.

Form: PD F 3062-4.

Description: Application by owner to request a substitute bond in lieu of bond not received.

Respondents: Individuals or households.

Estimated Total Burden Hours: 4,175 hours.

OMB Number: 1535-0004.

Type of Review: Extension.

Title: Special Form of Request for Payment of U.S. Savings and Retirement Sec. Where Use of a Detached Request is authorized.

Form: PD F 1522 E.

Description: Used to request payment of U.S. Savings Securities.

Respondents: Individuals or households.

Estimated Total Burden Hours: 14,000 hours.

Clearance Officer: Judi Owens (304) 480-8150, Bureau of the Public Debt, 200 Third Street, Parkersburg, West Virginia 26106.

OMB Reviewer: Shagufta Ahmed (202) 395-7873, Office of Management and Budget, Room 10235, New Executive Office Building, Washington, DC 20503.

Celina Elphage,
Treasury PRA Clearance Officer.

[FR Doc. E9-18990 Filed 8-6-09; 8:45 am]

BILLING CODE 4810-39-P